DEPARTMENT OF LABOR

Employment and Training Administration

Comment Request for Information Collection for Work Application/Job Order Recordkeeping (OMB 1205-0001), Extension Without Revisions

AGENCY: Employment and Training Administration, Labor.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data concerning the extension without changes of the data retention required by 20 CFR 652.8(d)(5) of the Wagner-Peyser Act, which requires each state to retain applications and job orders for a minimum of one year. The current expiration date for this information collection request is May 31, 2010.

A copy of the proposed information collection request (ICR) can be obtained by contacting the office listed below in the addressee section of this notice.

DATES: Written comments must be submitted to the office listed in the addressee's section below on or before March 8, 2010.

ADDRESSES: Submit written comments to U.S. Department of Labor, Employment and Training Administration, Division of Adult Services, Attention: Adriana Kaplan, 200 Constitution Avenue NW., Room S4209, Washington, DC 20210. Telephone number: 202-693-3740 (this is not a toll-free number). Fax: 202-693-3587. E-mail: Kaplan.Adriana@dol.gov.

SUPPLEMENTARY INFORMATION:

I. Background:

Currently, the Employment and Training Administration is soliciting comments concerning the proposed extension/reinstatement of the data retention required by 20 CFR 652.8(d)(5) of the Wagner-Peyser Act, which requires each state to retain applications and job orders for a minimum of one year.

II. Review Focus:

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

Type of Review: Extension without changes.

Title: Work Application/Job Orders Record.

OMB Number: 1205-0001.

Affected Public: State Governments.

Total Respondents: 52.

Citation or Form: 20 CFR 652.8(d)(5).

Frequency: On occasion.

Total Responses: Variable depending on number of job orders and work applications.

Average Time per Response: Variable.

Estimated Total Burden Hours: 8 hours per state or 416.

Total Burden Cost for Respondents: 0.

Comments submitted in response to this comment request will be summarized and/or included in the request for Office of Management and Budget approval of the information collection request; they will also become a matter of public record.

Dated: December 30, 2009.
Jane Oates,
Assistant Secretary, Employment and Training Administration.

[FR Doc. E9-31263 Filed 1-4-10; 8:45 am]

BILLING CODE 4510-FN-P